DEPARTMENT OF JUSTICE

Notice of Lodging of the Consent Decree Between the United States of America and Olympic Pipe Line Company Pursuant to the Clean Water Act

Pursuant to 28 CFR 50.7, notice is hereby given that on January 17, 2003, a proposed Consent Decree Between the United States of America and Olympic Pipe Line Company (Olympic Consent Decree), Civil Action No. CV02-1178R was lodged with the United States District Court for the Western District of Washington.

In this case, the United States sought injunctive relief and civil penalties for the discharge of gasoline into Hanna and Whatcom Creeks in Bellingham, Washington, navigable waters of the United States, and their adjoining shorelines, beginning on June 10, 1999, in violation of sections 301(a) and 311(b)(3) of the Clean Water Act, 33 U.S.C. 1311(a) and 1321(b)(3). The Olympic Consent Decree includes a civil penalty of $2.5 million and comprehensive injunctive relief designed to address all of the known causes of the gasoline spill beginning on June 10, 1999 and covering the entire 400-mile Olympic pipeline system from which the spill occurred. The spill prevention and mitigation program requires Olympic to pay an independent contractor approved by the United States Environmental Protection Agency (EPA) to monitor Olympic's implementation of the program, and to report to EPA. The program, which will last a minimum of five years, includes the following requirements:

• Internal inspections of pipeline using “Smart PIG” technology (devices that travel through pipeline to scan for defects);

• Preventive maintenance and repair of pipeline and valve defects;

• Monitoring of construction activities near the pipelines;

• Frequent pipeline surveys;

• Operator training; and

• A Management of Change Program requiring Olympic to analyze changes in its pipeline system for the effect of the changes on the operations and safety of the entire pipeline system.

The Department of Justice will receive for a period of 30 days from the date of this publication comments relating to the Olympic Consent Decree. Comments should be addressed to the Assistant Attorney General, Environment and Natural Resources Division, P.O. Box 7611, U.S. Department of Justice, Washington, DC 20044-7611, and should refer to United States v. Shell Pipeline Co. LP fka Equilon Pipeline Co. LLC and Olympic Pipeline Co., No. CV02-1178R (W.D. Wash.) and D.J. Reference No. 90-5-1-1-06967.

The Olympic Consent Decree may be examined at the Office of the United States Attorney, Western District of Washington, 601 Union Street, 50100 Two Union Square, Seattle, Washington 98101-3903, and at U.S. EPA Region X, 1200 6th Avenue, Seattle, Washington 98101. During the public comment period, the Olympic Consent Decree, may also be examined on the following Department of Justice Web site, http://www.usdoj.gov/enrd/open.html. A copy of the Olympic Consent Decree also may be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. When requesting a copy from the Consent Decree Library, please enclose a check in the amount of $57.25 (25 cents per page reproduction cost) payable to the U.S. Treasury.

Alternatively, you may request a copy of the Olympic Consent Decree without the attached exhibits by enclosing a check in the amount of $12.75 (25 cents per page reproduction cost) payable to the U.S. Treasury.

Robert E. Maher, Jr.,
Assistant Chief, Environmental Enforcement Service, Environment and Natural Resources Division.

[FR Doc. 03-1812 Filed 1-27-03; 8:45 am]

BILLING CODE 4410-15-M